FEDERAL MARITIME COMMISSION

Notice of Agreements Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012108-006.

Title: The World Liner Data Agreement.

Parties: Maersk Line A/S; CMA CGM S.A.; COSCO Shipping Lines Co., Ltd.; Hamburg-Sud; Hapag-Lloyd AG; Mediterranean Shipping Company S.A.; Orient Overseas Container Line Ltd.; United Arab Shipping Company S.A.G.; Hyundai Merchant Marine Co., Ltd.; Evergreen Line Joint Service Agreement; Nile Dutch Africa Line B.V.; Zim Integrated Shipping Services Limited; and Independent Container Line Ltd.

Filing Party: Wayne Rohde, Esq.; Cozen O'Connor; 1200 Nineteenth Street NW.; Washington, DC 20036.

Synopsis: The amendment deletes ANL and Hanjin as parties and adds COSCO and Nile Dutch as parties to the Agreement.

Agreement No.: 012300-001.

Title: The COSCO Shipping/KL/YMUK/ELJSA Slot Allocation and Sailing Agreement.

Parties: COSCO Shipping Lines Co., Ltd., Limited; Kawasaki Kisen Kaisha, Ltd.; Yang Ming (UK) Ltd.; Hanjin Shipping Co., Ltd.; and the Evergreen Line Joint Service Agreement.

Filing Party: Eric. C. Jeffrey, Esq.; Nixon Peabody LLP; 799 9th Street NW., Suite 500; Washington, DC 20001.

Synopsis: The amendment deletes Hanjin Shipping as a member of the agreement, changes the name of the agreement accordingly, and updates the name of COSCO Shipping.

Agreement No.: 012439-001.

Title: THE Alliance Agreement.

Parties: Hapag-Lloyd AG and Hapag-Lloyd USA LLC (acting as one party); Kawasaki Kisen Kaisha, Ltd.; Mitsui O.S.K. Lines, Ltd.; Nippon Yusen Kaisha; and Yang Ming Marine Transport Corp.

Filing Party: David F. Smith, Esq.; Cozen O'Conner; 1200 Nineteenth Street NW.; Washington, DC 20036.

Synopsis: The amendment authorizes the Parties to the Agreement to form, contribute funds to, develop rules for, and administer a contingency fund designed to protect against the effects of one of the parties experiencing financial distress or an insolvency event. The parties have requested expedited review.

By Order of the Federal Maritime Commission.
Dated: August 9, 2017.
JoAnne D. O' Bryant,
Program Analyst.

[FR Doc. 2017-17126 Filed 8-11-17; 8:45 am]

BILLING CODE 6731-AA-P